DEPARTMENT OF ENERGY

Notice of Intent To Establish the Worker Advocacy Advisory Committee

Pursuant to Section 9(a)(2) of the Federal Advisory Committee Act (Pub. No. 92-463), and in accordance with title 41 of the Code of Federal Regulations, section 101-6.1015(a), this is notice of intent to establish the Worker Advocacy Advisory Committee. This intent to establish follows consultation with the Committee Management Secretariat of the General Services Administration, pursuant to 41 CFR Subpart 101-6.10.

The purpose of the Committee is to provide the Secretary of Energy and the Assistant Secretary for Environment, Safety and Health with advice, information, and recommendations on programs to assist workers who have been diagnosed with work-related illnesses under the Department of Energy's former worker medical surveillance program and ongoing beryllium medical surveillance programs in filing state workers' compensation claims. The Committee will: (1) Provide advice to the Department of Energy on workers' compensation policy issues of concern to the Department; (2) periodically review worker advocacy program initiatives and recommendations; and, (3) provide advice on plans, priorities, and strategies to improve advocacy practices and procedures of the worker advocacy program.

Committee members will be chosen to ensure an appropriately balanced membership to bring into account a diversity of viewpoints, including state and federal workers' compensation specialists, workers, union representatives, occupational physicians, representatives of medical and public health organizations, academic researchers and the public at large who may significantly contribute to the deliberations of the Committee. All meetings of this Committee will be published ahead of time in the Federal Register.

Additionally, the establishment of the Worker Advocacy Advisory Committee is essential to the conduct of Department of Energy business, and is in the public interest.

Further information regarding this committee may be obtained from Dr. David Michaels, Assistant Secretary for Environment, Safety and Health, U.S. Department of Energy, Washington, DC 20585, phone (202) 586-6151.

Issued in Washington, DC on December 7, 2000.
James N. Solit,
Advisory Committee Management Officer.

[FR Doc. 00-31598 Filed 12-11-00; 8:45 am]

BILLING CODE 6450-01-M